DEPARTMENT OF COMMERCE

International Trade Administration

[A-201-847]

Heavy Walled Rectangular Welded Carbon Steel Pipes and Tubes From Mexico: Final Results of Antidumping Duty Administrative Review; 2022-2023

AGENCY: Enforcement and Compliance, International Trade Administration, Department of Commerce.

SUMMARY: The U.S. Department of Commerce (Commerce) determines that producers/exporters of heavy-walled rectangular welded carbon steel pipes and tubes (HWR) from Mexico made sales of subject merchandise at less than normal value during the period of review (POR), September 1, 2022, through August 31, 2023.

DATES: Applicable July 24, 2025.

FOR FURTHER INFORMATION CONTACT: Katie Smith, AD/CVD Operations, Office II, Enforcement and Compliance, International Trade Administration, U.S. Department of Commerce, 1401 Constitution Avenue NW, Washington, DC 20230; telephone: (202) 482-0557.

SUPPLEMENTARY INFORMATION:

Background

On October 23, 2024, Commerce published in the Federal Register the Preliminary Results of the 2022-2023 administrative review ¹ of the antidumping duty order on heavy walled rectangular welded carbon steel pipes and tubes from Mexico.² On December 9, 2024, Commerce tolled the deadlines of all administrative review results by 90 days.³ On May 16, 2025, Commerce extended the deadline for the final results of this review until July 21, 2025.⁴

¹ See Heavy Walled Rectangular Welded Carbon Steel Pipes and Tubes from Mexico: Preliminary Results and Recission in Part, of the Antidumping Duty Administrative Review; 2022-2023, 89 FR 84530 (October 23, 2024) (Preliminary Results), and accompanying Preliminary Decision Memorandum.

² See Heavy Walled Rectangular Welded Carbon Steel Pipes and Tubes from the Republic of Korea, Mexico, and the Republic of Turkey: Antidumping Duty Orders, 81 FR 62865 (September 13, 2016) (Order).

³ See Memorandum, “Tolling of Deadlines for Antidumping and Countervailing Duty Proceedings,” dated December 10, 2024.

⁴ See Memorandum, “Extension of the Deadline for Final Results of Antidumping Duty Administrative Review,” dated May 16, 2025.

This review covers eight companies, including two mandatory respondents, Maquilacero S.A. de C.V. (Maquilacero) and Productos Laminados de Monterrey S.A. de C.V. (Prolamsa), for individual examination. We invited interested parties to comment on the Preliminary Results.⁵ We received case briefs from Maquilacero and Nucor Tubular Products Inc. (i.e., the petitioner) ⁶ and received rebuttal briefs from Maquilacero, Prolamsa, and the petitioner.⁷ For a complete description of the events that occurred since the Preliminary Results, see the Issues and Decision Memorandum.⁸ Commerce conducted this review in accordance with section 751(a)(1)(B) of the Tariff Act of 1930, as amended (the Act).

⁵ See Preliminary Results.

⁶ See Maquilacero's Letter, “Maquilacero S.A. de C.V's Case Brief,” dated November 22, 2024; see also Petitioner's Letter, “Petitioner's Case Brief,” dated November 22, 2024.

⁷ See Maquilacero's Letter, “Maquilacero S.A. de C.V's Rebuttal Brief,” dated November 27, 2024; Prolamsa's Letter, “Rebuttal Brief,” dated November 27, 2024; see also Petitioner's Letter, “Petitioner's Rebuttal Brief,” dated November 27, 2024.

⁸ See Memorandum, “Issues and Decision Memorandum for the Final Results of the Antidumping Duty Administrative Review: Heavy-Walled Rectangular Welded Carbon Steel Pipes and Tubes from Mexico; 2022-2023,” dated concurrently with, and hereby adopted by, this notice (Issues and Decision Memorandum).

Scope of the Order

The merchandise subject to the Order is HWR pipes and tubes from Mexico. A complete description of the scope of the Order is contained in the Issues and Decision Memorandum.

Analysis of Comments Received

All issues raised in case and rebuttal briefs by interested parties in this administrative review are addressed in the Issues and Decision Memorandum and are listed in the appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Changes Since the Preliminary Results

Based on a review of the record and comments received from interested parties regarding the Preliminary Results, and for the reasons explained in the Issues and Decision Memorandum, we made certain changes to the weighted-average dumping margin calculations for Maquilacero and Prolamsa for the final results of review.⁹

⁹ Id.

On June 13 and June 16, 2025, respectively, the U.S. Court of Appeals for the Federal Circuit (Federal Circuit) issued mandates based on the Federal Circuit's opinions in Marmen and Stupp.¹⁰ In its opinions, the Federal Circuit held that it is unreasonable to use the Cohen's d test when the Cohen's d test is applied to data that do not satisfy certain statistical criteria. Accordingly, in an effort to comply with the Federal Circuit's holdings regarding the Cohen's d test, Commerce has revised the differential pricing analysis used in these final results, as described in the Issues and Decision Memorandum.¹¹

¹⁰ See Marmen Inc. v. United States, 134 F.4th 1334 (Fed. Cir. 2025) (Marmen); Stupp Corp. v. United States, 2025 U.S. App. LEXIS 9616 (Fed. Cir. 2025) (non-precedential) (Stupp).

¹¹ Although Commerce's preference is to provide interested parties with an opportunity to comment, given the impending statutory deadline of section 751(a)(2)(B)(iii) of the Act for the final results of this administrative review (July 21, 2025), there is insufficient time to allow for comments on the revised differential pricing analysis and related calculations for comment in this administrative review.

Rates for Companies Not Selected for Individual Examination

The statute and Commerce's regulations do not address the establishment of a rate to be applied to individual companies not selected for examination when Commerce limits its examination in an administrative review pursuant to section 777A(c)(2) of the Act. Generally, Commerce looks to section 735(c)(5) of the Act, which provides for calculating the all-others rate in an investigation, for guidance when calculating the rate for companies which Commerce did not examine in an administrative review. Under section 735(c)(5)(A) of the Act, the all others rate is normally an amount equal to the weighted average of the estimated weighted average dumping margins established for exporters and producers individually investigated, excluding rates that are zero, de minimis (i.e., less than 0.5 percent), or determined entirely on the basis of facts available.

For these final results of review, we calculated a weighted-average dumping margin for both mandatory respondents, Maquilacero and Prolamsa, that are not zero, de minimis, or based entirely on the basis of facts available. Accordingly, Commerce is assigning to the companies not individually examined, listed in the chart below, a margin which is the weighted average of Maquilacero's and Prolamsa's calculated weighted-average dumping margins.¹²

¹² See Memorandum, “Calculation of the Weighted-Average Dumping Margin for Non-Selected Companies for the Final Results,” dated concurrently with this notice.

Final Results of the Review

As a result of this review, we determine the following estimated weighted-average dumping margin exists for the period September 1, 2022, through August 31, 2023:

Producer/exporter | Weighted-average dumping margin (percent)
Maquilacero S.A. de C.V | 7.77
Productos Laminados de Monterrey S.A. de C.V | 14.03
Review Specific Rate for Non-Examined Companies
Aceros del Toro S.A. de C.V | 11.80
Aceros El Fraile S.A. de C.V | 11.80
Acro Metal S.A. de C.V | 11.80
Border Assembly S. de R.L. de C.V | 11.80
Buffalo Tube S.A. de C.V | 11.80
Fortacero S.A. de C.V | 11.80
Forza Steel, S.A. DE C.V | 11.80
Grupo Collado S.A. de C.V | 11.80
Industrias Monterrey S.A. de C.V | 11.80
Perfiles y Herrajes L.M., S.A. de C.V | 11.80
Placa y Fierro de Monterrey S.A. de C.V | 11.80
PYTCO S.A. de C.V | 11.80
Regiomontana de Perfiles y Tubos S.A. de C.V | 11.80
Tuberias Procarsa S.A. de C.V | 11.80

Disclosure

Commerce intends to disclose the calculations performed in connection with these final results of review to interested parties within five days after public announcement of the final results or, if there is no public announcement, within five days of the date of publication of the notice of final results in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with the final results of this review.

Pursuant to 19 CFR 351.212(b)(1), we calculated importer-specific ad valorem duty assessment rates based on the ratio of the total amount of dumping calculated for each importer's examined sales and the total entered value of those sales. Where either the respondent's weighted-average dumping margin is zero or de minimis within the meaning of 19 CFR 351.106(c)(1), or an importer-specific assessment rate is de minimis (i.e., less than 0.5 percent), we will instruct CBP to liquidate the appropriate entries without regard to antidumping duties.

For entries of subject merchandise during the POR produced by Maquilacero and Prolamsa for which it did not know that its merchandise was destined for the United States, we will instruct CBP to liquidate such entries at the all-others rate established in the less-than-fair-value (LTFV) investigation of 4.91 percent ad valorem,¹³ if there is no rate for the intermediate company(ies) involved in the transaction.

¹³ See Order.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of the subject merchandise entered, or withdrawn from warehouse, for consumption on or after the publication date of the final results of this administrative review, as provided by section 751(a)(2) of the Act: (1) the cash deposit rate for the companies subject to this review will be equal to the weighted-average dumping margin established in the “Finals Results of the Review” section above; (2) for merchandise exported by producers or exporters not covered in this review but covered in a prior completed segment of the proceeding, the cash deposit rate will continue to be the company-specific rate published in the completed segment for the most recent period; (3) if the exporter is not a firm covered in this review, a prior review, or the LTFV investigation, but the producer has been covered in a prior completed segment of this proceeding, then the cash deposit rate will be the rate established in the completed segment for the most recent period for the producer of the merchandise; and (4) the cash deposit rate for all other producers or exporters will continue to be 4.91 percent, the all-others rate established in the LTFV investigation for this proceeding.¹⁴ These cash deposit requirements, when imposed, shall remain in effect until further notice.

¹⁴ Id.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Administrative Protective Order

This notice serves as the only reminder to parties subject to an administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and the terms of an APO is a violation which is subject to sanction.

Notification to Interested Parties

We are issuing and publishing this notice in accordance with sections 751(a)(1) and 777(i) of the Act, and 19 CFR 351.221(b)(5) and 19 CFR 351.213(h)(1).

Dated: July 21, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Differential Pricing Analysis

VI. Discussion of the Issues

Comment 1: Whether to to Apply the Transactions Disregarded Adjustment to Maquilacero's Reported Cost of Coils Purchased from Affiliated Parties

Comment 2: Whether to Exclude Certain Line Items from Maquilacero's General and Administrative (G&A) Expenses Calculation

Comment 3: Whether to Adjust Maquilacero's Claimed Scrap Offset

Comment 4: Whether to Apply a Smoothing Adjustment to Prolamsa's Reported Quarterly Weighted-Average Per-Unit Direct Material (DIRMAT)

Comment 5: Whether to Adjust Prolamsa's Total Cost of Manufacture (TOTCOM) to Account for the Cost Reconciliation Discrepancy

Comment 6: Whether to Adjust Maquilacero's Margin Program

Comment 7: Whether Tecnicas De Fluidos S.A. de C.V's (TEFLU) Products Fall Within the Scope

Comment 8: Whether to Collapse Maquilacero and TEFLU

Comment 9: Treatment of Maquilacero's Virtual Sales

Comment 10: Usage of the Differential Pricing Analysis

VII. Recommendation

[FR Doc. 2025-13985 Filed 7-23-25; 8:45 am]

BILLING CODE 3510-DS-P